DEPARTMENT OF HEALTH AND HUMAN SERVICES

Administration for Children and Families

Submission for OMB Review; Comment Request

Title: TANF Office Culture Study.

OMB No.: New Collection.

Description: The Administration for Children and Families (ACF), U.S. Department of Health and Human Services (HHS) is proposing data collection activities as part of a project to identify and describe exemplars of TANF organizational culture as well as successful strategies human services offices have undertaken to improve their organizational culture. This qualitative study intends to use this information to increase understanding of how various agencies' organizational cultures influence TANF clients' experiences, service delivery, and frontline workers.

The information collection activities to be submitted in the package include:

(1) Leadership and supervisor interviews will collect information on program structure and staffing, client experiences, agency goals and performance management, organizational learning and innovation, cultural congruence across service providers, and the perception of the organizational culture change, if applicable.

(2) Frontline workers' interviews will collect information about frontline staffs' role in service delivery, client experiences, peer interaction and social institutions within the agency, agency goals, organizational learning and innovation, and the perception of the organizational culture change initiative, if applicable.

(3) The focus groups will collect information about program participants' perceptions of agency processes, their communication with agency staff, and their assessment of the agency's organizational culture.

Respondents: Individuals receiving TANF and related services, TANF directors, and managers and staff at local TANF offices.

Annual Burden Estimates
Instrument | Total number of respondents | Annual number of respondents | Number of responses per respondent | Average burden hours per response | Annual burden hours
Leadership and Supervisor Interview Guide | 24 | 8 | 1 | 1.5 | 12
Frontline Staff Interview Guide | 12 | 4 | 1 | 1 | 4
Focus Group Guide | 54 | 18 | 1 | 1.5 | 27

Estimated Total Annual Burden Hours: 43.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary B. Jones,
ACF/OPRE Certifying Officer.

[FR Doc. 2018-08233 Filed 4-18-18; 8:45 am]

BILLING CODE 4184-09-P